DEPARTMENT OF TRANSPORTATION

National Highway Traffic Safety Administration

Annual List of Defect and Noncompliance Decisions Affecting Nonconforming Imported Vehicles

AGENCY: National Highway Traffic Safety Administration (NHTSA), DOT.

ACTION: Annual list of defect and noncompliance decisions affecting nonconforming vehicles imported by registered importers.

SUMMARY: This document contains a list of vehicles recalled by their manufacturers during Calendar Year 2002 (January 1, 2002 through December 31, 2002) to correct a safety-related defect or a noncompliance with an applicable Federal motor vehicle safety standard (FMVSS). The listed vehicles are those that NHTSA has decided are substantially similar to vehicles imported into the United States that were not originally manufactured and certified to conform to all applicable FMVSS. The registered importers of those nonconforming vehicles are required to provide their owners with notification of, and a remedy for, the defects or noncompliances for which the listed vehicles were recalled.

FOR FURTHER INFORMATION CONTACT: Coleman Sachs, Office of Vehicle Safety Compliance, NHTSA (202-366-3151).

SUPPLEMENTARY INFORMATION: Under 49 U.S.C. 30141(a)(1)(A), a motor vehicle that was not originally manufactured to conform to all applicable Federal motor vehicle safety standards (FMVSS) shall be refused admission into the United States unless NHTSA has decided that the motor vehicle is substantially similar to a motor vehicle of the same model year that was originally manufactured for importation into and sale in the United States and certified under 49 U.S.C. 30115. Once NHTSA decides that a nonconforming vehicle is eligible for importation, it may be imported by a person who is registered with the agency pursuant to 49 U.S.C. 30141(c). Before releasing the vehicle for use on public streets, roads, or highways, the registered importer must certify to NHTSA, pursuant to 49 U.S.C. 30146(a), that the vehicle has been brought into conformity with all applicable FMVSS.

If a vehicle originally manufactured for importation into and sale in the United States is decided to contain a defect related to motor vehicle safety, or not to comply with an applicable FMVSS, 49 U.S.C. 30147(a)(1)(A) provides that the same defect or noncompliance is deemed to exist in any nonconforming vehicle that NHTSA has decided to be substantially similar and for which a registered importer has submitted a certificate of conformity to the agency. Under 49 U.S.C. 30147(a)(1)(B), the registered importer is deemed to be the nonconforming vehicle's manufacturer for the purpose of providing notification of, and a remedy for, the defect or noncompliance.

To apprise registered importers of the vehicles for which they must conduct a notification and remedy (i.e., “recall”) campaign, 49 U.S.C. 30147(a)(2) requires NHTSA to publish in the Federal Register notice of any defect or noncompliance decision that is made with respect to substantially similar U.S. certified vehicles. Annex A contains a list of all such decisions that were made during Calendar Year 2002. The list identifies the Recall Number that was assigned to the recall by NHTSA after the agency received the manufacturer's notification of the defect or noncompliance under 49 CFR part 573. After December 31, 2003, NHTSA will publish a comparable list of all defect and noncompliance decisions affecting nonconforming imported vehicles that are made during the current calendar year.

Under 49 U.S.C. 30120(a), a manufacturer may remedy a safety-related defect or noncompliance in a motor vehicle by repairing the vehicle, replacing the vehicle with an identical or reasonably equivalent vehicle, or by refunding the purchase price, less a reasonable allowance for depreciation. For each of the vehicles listed, the manufacturer elected to remedy the defect or noncompliance by repair, and not by replacing the vehicle or by refunding the purchase price.

Authority: 49 U.S.C. 30147(a)(2); 49 CFR 593.8; delegations of authority at 49 CFR 1.50 and 501.8.

Issued on: September 12, 2003.
Kenneth N. Weinstein,
Associate Administrator for Enforcement.

Annex A—Calendar Year 2002 Recalls Affecting Vehicles Imported by Registered Importers
Make | Model | Model year | NHTSA recall No.
ACURA | 3.5RL | 2000 | 02V119000
ACURA | 3.5RL | 2002 | 02V119000
ACURA | MDX | 2002 | 02V226000
BMW | 323I | 1999 | 02V223000
BMW | 323I | 2000 | 02V223000
BMW | 328I | 1999 | 02V223000
BMW | 328I | 2000 | 02V223000
BMW | 745I | 2002 | 02V150000
BMW | X5 | 2000 | 02V194000
BMW | X5 | 2001 | 02V194000
BUICK | LESABRE | 2002 | 02V067000
BUICK | LESABRE | 2002 | 02V222000
BUICK | LESABRE | 2003 | 02V222000
BUICK | PARK AVENUE | 2001 | 02V328000
BUICK | RENDEZVOUS | 2002 | 02V222000
BUICK | SKYLARK | 1996 | 02V070000
CADILLAC | DEVILLE | 2002 | 02V067000
CADILLAC | DEVILLE | 2002 | 02V222000
CADILLAC | ESCALADE | 2000 | 02V253000
CADILLAC | ESCALADE | 2001 | 02V253000
CADILLAC | ESCALADE | 2002 | 02V253000
CADILLAC | ESCALADE | 2003 | 02V224000
CHEVROLET | BLAZER | 2000 | 01V364000
CHEVROLET | BLAZER | 2001 | 01V364000
CHEVROLET | BLAZER | 2002 | 01V364000
CHEVROLET | CAVALIER | 1995 | 02V070000
CHEVROLET | CAVALIER | 1996 | 02V070000
CHEVROLET | CAVALIER | 1997 | 02V070000
CHEVROLET | EXPRESS | 2003 | 02V305000
CHEVROLET | EXPRESS | 2003 | 02V326000
CHEVROLET | EXPRESS | 2003 | 02V330000
CHEVROLET | IMPALA | 2002 | 02V222000
CHEVROLET | IMPALA | 2003 | 02V222000
CHEVROLET | MALIBU | 2002 | 02V107000
CHEVROLET | MONTE CARLO | 1999 | 02V329000
CHEVROLET | MONTE CARLO | 2002 | 02V222000
CHEVROLET | SILVERADO | 2000 | 02V178000
CHEVROLET | SUBURBAN | 2000 | 02V178000
CHEVROLET | TAHOE | 2000 | 02V178000
CHEVROLET | TAHOE | 2000 | 02V253000
CHEVROLET | TAHOE | 2001 | 02V253000
CHEVROLET | TAHOE | 2002 | 02V253000
CHEVROLET | TRAILBLAZER | 2002 | 02V121000
CHEVROLET | TRAILBLAZER | 2002 | 02V222000
CHEVROLET | TRAILBLAZER | 2002 | 02V273000
CHEVROLET | TRAILBLAZER | 2003 | 02V222000
CHEVROLET | VENTURE | 2001 | 01V383000
CHEVROLET | VENTURE | 2001 | 02V329000
CHEVROLET | VENTURE | 2002 | 02V222000
CHEVROLET | VENTURE | 2003 | 02V222000
CHRYSLER | 300M | 2000 | 01V273000
CHRYSLER | 300M | 2001 | 01V273000
CHRYSLER | CONCORDE | 2000 | 01V273000
CHRYSLER | CONCORDE | 2001 | 01V273000
CHRYSLER | LHS | 2000 | 01V273000
CHRYSLER | LHS | 2001 | 01V273000
CHRYSLER | PT CRUISER | 2001 | 02V162000
CHRYSLER | PT CRUISER | 2001 | 02V214000
CHRYSLER | PT CRUISER | 2001 | 02V215000
CHRYSLER | PT CRUISER | 2002 | 02V215000
CHRYSLER | SEBRING | 1996 | 02V186000
CHRYSLER | SEBRING | 1997 | 02V186000
CHRYSLER | TOWN AND COUNTRY | 1996 | 00V268000
CHRYSLER | TOWN AND COUNTRY | 1996 | 02V293000
CHRYSLER | TOWN AND COUNTRY | 1997 | 00V268000
CHRYSLER | TOWN AND COUNTRY | 1997 | 02V076000
CHRYSLER | TOWN AND COUNTRY | 1997 | 02V293000
CHRYSLER | TOWN AND COUNTRY | 1998 | 02V268000
CHRYSLER | TOWN AND COUNTRY | 1998 | 02V076000
CHRYSLER | TOWN AND COUNTRY | 1998 | 02V293000
CHRYSLER | TOWN AND COUNTRY | 1999 | 02V268000
CHRYSLER | TOWN AND COUNTRY | 1999 | 02V076000
CHRYSLER | TOWN AND COUNTRY | 2000 | 02V268000
DODGE | CARAVAN | 1996 | 00V268000
DODGE | CARAVAN | 1996 | 02V293000
DODGE | CARAVAN | 1997 | 00V268000
DODGE | CARAVAN | 1997 | 02V076000
DODGE | CARAVAN | 1997 | 02V293000
DODGE | CARAVAN | 1998 | 00V268000
DODGE | CARAVAN | 1998 | 02V076000
DODGE | CARAVAN | 1998 | 02V293000
DODGE | CARAVAN | 1999 | 00V268000
DODGE | CARAVAN | 1999 | 02V076000
DODGE | CARAVAN | 2000 | 00V268000
DODGE | GRAND CARAVAN | 1996 | 00V268000
DODGE | GRAND CARAVAN | 1996 | 02V293000
DODGE | GRAND CARAVAN | 1997 | 00V268000
DODGE | GRAND CARAVAN | 1997 | 02V293000
DODGE | GRAND CARAVAN | 1998 | 00V268000
DODGE | GRAND CARAVAN | 1998 | 02V293000
DODGE | GRAND CARAVAN | 1999 | 00V268000
DODGE | GRAND CARAVAN | 2000 | 00V268000
DODGE | GRAND CARAVAN | 2002 | 02V274000
DODGE | INTREPID | 2000 | 01V273000
DODGE | INTREPID | 2001 | 01V273000
DODGE | RAM | 1997 | 02V161000
DODGE | RAM | 1998 | 02V161000
DODGE | RAM | 2001 | 02V042000
DODGE | RAM | 2002 | 02V159000
DODGE | VIPER | 1996 | 01V312000
DODGE | VIPER | 1996 | 01V313000
DODGE | VIPER | 1997 | 01V312000
DODGE | VIPER | 1997 | 01V313000
DODGE | VIPER | 1998 | 01V120000
DODGE | VIPER | 1998 | 01V312000
DODGE | VIPER | 1998 | 01V313000
DODGE | VIPER | 1999 | 01V120000
DODGE | VIPER | 1999 | 01V312000
DODGE | VIPER | 1999 | 01V313000
DODGE | VIPER | 2000 | 01V120000
DODGE | VIPER | 2000 | 01V313000
DODGE | VIPER | 2001 | 01V120000
FERRARI | 360 MODENA | 2001 | 02V091000
FERRARI | 360 SPIDER | 2001 | 02V091000
FORD | CROWN VICTORIA | 2002 | 02V249000
FORD | F250 | 1999 | 02V068000
FORD | F350 | 1999 | 02V068000
FORD | F450 | 1999 | 02V068000
FORD | F550 | 1999 | 02V068000
FORD | F650 | 2001 | 02V024000
FORD | F750 | 2000 | 02V024000
FORD | F750 | 2001 | 02V024000
FORD | F750 | 2002 | 02V024000
FORD | RANGER | 2002 | 02V035000
FORD | TAURUS | 2000 | 02V266000
FORD | TAURUS | 2001 | 02V266000
FORD | TAURUS | 2002 | 02V266000
FORD | THUNDERBIRD | 2002 | 02V169000
FORD | WINDSTAR | 1995 | 02V101000
FORD | WINDSTAR | 1996 | 02V101000
FORD | WINDSTAR | 2000 | 02V072000
FORD | WINDSTAR | 2001 | 02V072000
FREIGHTLINER | FLD | 1994 | 01V209000
FREIGHTLINER | FLD | 1995 | 01V209000
FREIGHTLINER | FLD | 1997 | 02V077000
GMC | DENALI | 2000 | 02V253000
GMC | DENALI | 2001 | 02V253000
GMC | DENALI | 2002 | 02V253000
GMC | ENVOY | 2002 | 02V121000
GMC | ENVOY | 2002 | 02V222000
GMC | ENVOY | 2002 | 02V27300
GMC | ENVOY | 2003 | 02V222000
GMC | JIMMY | 2000 | 01V364000
GMC | JIMMY | 2001 | 01V364000
GMC | SAVANA | 2003 | 02V305000
GMC | SAVANA | 2003 | 02V326000
GMC | SIERRA | 2000 | 02V178000
GMC | YUKON | 2000 | 02V178000
GMC | YUKON | 2000 | 02V253000
GMC | YUKON | 2001 | 02V253000
GMC | YUKON | 2002 | 02V253000
GMC | YUKON XL | 2000 | 02V178000
HARLEY DAVIDSON | FLHR | 2001 | 02V002000
HARLEY DAVIDSON | FLHR | 2002 | 02V002000
HARLEY DAVIDSON | FLHT | 2001 | 02V002000
HARLEY DAVIDSON | FLHT | 2002 | 02V002000
HARLEY DAVIDSON | FLHTC | 2001 | 02V002000
HARLEY DAVIDSON | FLHTC | 2002 | 02V002000
HARLEY DAVIDSON | FLTRSEI | 2000 | 02V272000
HONDA | ACCORD | 2000 | 01V380000
HONDA | ACCORD | 2000 | 02V051000
HONDA | ACCORD | 2001 | 01V380000
HONDA | ACCORD | 2001 | 02V051000
HONDA | ACCORD | 2002 | 02V226000
HONDA | CIVIC | 2000 | 01V380000
HONDA | CIVIC | 2000 | 02V051000
HONDA | CIVIC | 2001 | 01V380000
HONDA | CIVIC | 2001 | 02V051000
HONDA | ODYSSEY | 2002 | 02V226000
HONDA | PILOT | 2003 | 02V226000
HYUNDAI | ACCENT | 2000 | 01V346000
HYUNDAI | ACCENT | 2000 | 02V167000
HYUNDAI | SANTA FE | 2001 | 02V111000
HYUNDAI | SONATA | 1999 | 02V105000
HYUNDAI | SONATA | 2000 | 02V105000
HYUNDAI | SONATA | 2001 | 02V105000
INFINITI | I30 | 1998 | 02V171000
INFINITI | I35 | 2002 | 02V146000
INFINITI | Q45 | 1998 | 02V171000
INTERNATIONAL | 2000 | 1999 | 02V135002
INTERNATIONAL | 4000 | 1990 | 02V137000
INTERNATIONAL | 4000 | 1993 | 02V137000
INTERNATIONAL | 4300 | 2002 | 02V054000
INTERNATIONAL | 4300 | 2002 | 02V094000
INTERNATIONAL | 4300 | 2002 | 02V095000
INTERNATIONAL | 4300 | 2002 | 02V174000
INTERNATIONAL | 4300 | 2002 | 02V260000
INTERNATIONAL | 4700 | 1998 | 02V135002
INTERNATIONAL | 4700 | 1999 | 02V135002
INTERNATIONAL | 4700 | 1999 | 02V252000
INTERNATIONAL | 4700 | 2000 | 02V135002
INTERNATIONAL | 4700 | 2000 | 02V252000
INTERNATIONAL | 4700 | 2001 | 02V135002
INTERNATIONAL | 4700 | 2001 | 02V252000
INTERNATIONAL | 4800 | 1999 | 02V135002
INTERNATIONAL | 4800 | 2000 | 02V135002
INTERNATIONAL | 4900 | 1998 | 02V135002
INTERNATIONAL | 4900 | 1999 | 02V135002
INTERNATIONAL | 4900 | 1999 | 02V252000
INTERNATIONAL | 4900 | 2000 | 02V135002
INTERNATIONAL | 4900 | 2000 | 02V252000
INTERNATIONAL | 5000 | 1998 | 02V135002
INTERNATIONAL | 5000 | 1999 | 02V135002
INTERNATIONAL | 7400 | 2002 | 02V205000
INTERNATIONAL | 7500 | 2002 | 02V205000
JEEP | CHEROKEE | 2000 | 02V104000
JEEP | CHEROKEE | 2001 | 02V104000
JEEP | GRAND CHEROKEE | 1993 | 02V053000
JEEP | GRAND CHEROKEE | 1994 | 02V053000
JEEP | GRAND CHEROKEE | 1995 | 02V053000
JEEP | GRAND CHEROKEE | 1996 | 02V053000
JEEP | GRAND CHEROKEE | 1997 | 02V053000
JEEP | GRAND CHEROKEE | 1998 | 02V053000
JEEP | GRAND CHEROKEE | 1999 | 02V104000
JEEP | GRAND CHEROKEE | 2000 | 02V104000
JEEP | GRAND CHEROKEE | 2001 | 02V104000
JEEP | GRAND CHEROKEE | 2002 | 01V348000
JEEP | GRAND CHEROKEE | 2002 | 01V374000
JEEP | GRAND CHEROKEE | 2002 | 02V032000
JEEP | GRAND CHEROKEE | 2002 | 02V099000
JEEP | GRAND CHEROKEE | 2002 | 02V104000
JEEP | LIBERTY | 2002 | 01V373000
JEEP | WRANGLER | 1990 | 02V041000
JEEP | WRANGLER | 1991 | 02V041000
JEEP | WRANGLER | 1992 | 02V041000
JEEP | WRANGLER | 1993 | 02V041000
JEEP | WRANGLER | 1994 | 02V041000
JEEP | WRANGLER | 1995 | 02V041000
JEEP | WRANGLER | 2000 | 02V104000
JEEP | WRANGLER | 2001 | 02V075000
JEEP | WRANGLER | 2001 | 02V104000
JEEP | WRANGLER | 2002 | 02V075000
JEEP | WRANGLER | 2002 | 02V104000
KENWORTH | T300 | 2002 | 02V241001
KENWORTH | T800 | 2002 | 02V241001
LAND ROVER | DISCOVERY II | 1999 | 02V022000
LAND ROVER | DISCOVERY II | 1999 | 02V028000
LAND ROVER | DISCOVERY II | 2000 | 02V022000
LAND ROVER | DISCOVERY II | 2000 | 02V028000
MAZDA | MPV | 2000 | 01V382000
MAZDA | MPV | 2001 | 01V382000
MINI | COOPER | 2002 | 02V201000
NISSAN | MAXIMA | 1997 | 02V171000
NISSAN | MAXIMA | 1998 | 02V171000
NISSAN | MAXIMA | 2001 | 02V146000
NISSAN | MAXIMA | 2002 | 02V043000
NISSAN | MAXIMA | 2002 | 02V146000
NISSAN | PATHFINDER | 1994 | 02V125000
NISSAN | SENTRA | 2001 | 01V376000
NISSAN | SENTRA | 2002 | 01V376000
OLDSMOBILE | ACHIEVA | 1996 | 02V070000
OLDSMOBILE | ACHIEVA | 1997 | 02V070000
OLDSMOBILE | AURORA | 2002 | 02V222000
OLDSMOBILE | BRAVADA | 2002 | 02V121000
OLDSMOBILE | BRAVADA | 2002 | 02V222000
OLDSMOBILE | SILHOUETTE | 2001 | 01V383000
OLDSMOBILE | SILHOUETTE | 2001 | 02V329000
OLDSMOBILE | SILHOUETTE | 2002 | 02V222000
PETERBILT | 357 | 2001 | 02V018001
PETERBILT | 358 | 2001 | 02V018001
PLYMOUTH | GRAND VOYAGER | 1996 | 00V268000
PLYMOUTH | GRAND VOYAGER | 1996 | 02V293000
PLYMOUTH | GRAND VOYAGER | 1997 | 00V268000
PLYMOUTH | GRAND VOYAGER | 1997 | 02V293000
PLYMOUTH | GRAND VOYAGER | 1998 | 00V268000
PLYMOUTH | GRAND VOYAGER | 1998 | 02V293000
PLYMOUTH | GRAND VOYAGER | 1999 | 00V268000
PLYMOUTH | GRAND VOYAGER | 2000 | 00V268000
PLYMOUTH | VOYAGER | 1996 | 00V268000
PLYMOUTH | VOYAGER | 1996 | 02V293000
PLYMOUTH | VOYAGER | 1997 | 00V268000
PLYMOUTH | VOYAGER | 1997 | 02V076000
PLYMOUTH | VOYAGER | 1997 | 02V293000
PLYMOUTH | VOYAGER | 1998 | 00V268000
PLYMOUTH | VOYAGER | 1998 | 02V076000
PLYMOUTH | VOYAGER | 1998 | 02V293000
PLYMOUTH | VOYAGER | 1999 | 00V268000
PLYMOUTH | VOYAGER | 1999 | 02V076000
PLYMOUTH | VOYAGER | 2000 | 00V268000
PONTIAC | AZTEK | 2001 | 01V383000
PONTIAC | AZTEK | 2001 | 02V329000
PONTIAC | BONNEVILLE | 2002 | 02V222000
PONTIAC | BONNEVILLE | 2003 | 02V222000
PONTIAC | GRAND AM | 1996 | 02V070000
PONTIAC | GRAND AM | 1997 | 02V070000
PONTIAC | GRAND PRIX | 1999 | 02V027000
PONTIAC | GRAND PRIX | 2001 | 02V329000
PONTIAC | MONTANA | 1999 | 02V027000
PONTIAC | MONTANA | 2001 | 01V383000
PONTIAC | MONTANA | 2001 | 02V329000
PONTIAC | MONTANA | 2002 | 02V222000
PONTIAC | MONTANA | 2003 | 02V222000
PONTIAC | SUNFIRE | 1995 | 02V070000
PONTIAC | SUNFIRE | 1996 | 02V070000
PONTIAC | SUNFIRE | 1997 | 02V070000
PONTIAC | TRANS SPORT | 1999 | 02V027000
PONTIAC | VIBE | 2003 | 02V074002
SUBARU | OUTBACK | 2002 | 02V079000
TOYOTA | 4 RUNNER | 1996 | 02V021000
TOYOTA | 4 RUNNER | 1997 | 02V021000
TOYOTA | 4 RUNNER | 1998 | 02V021000
TOYOTA | COROLLA | 2003 | 02V074001
TOYOTA | ECHO | 2001 | 02V268000
TOYOTA | ECHO | 2002 | 02V268000
TOYOTA | HIGHLANDER | 2001 | 02V208000
TOYOTA | HIGHLANDER | 2002 | 02V208000
TOYOTA | TUNDRA | 1999 | 02V050000
TOYOTA | TUNDRA | 2000 | 02V050000
TOYOTA | TUNDRA | 2001 | 02V050000
TRIUMPH | SPEED TRIPLE | 2001 | 01V339000
TRIUMPH | SPEED TRIPLE | 2001 | 02V242000
VOLKSWAGEN | GOLF | 2001 | 02V031000
VOLKSWAGEN | GOLF | 2002 | 02V031000
VOLKSWAGEN | JETTA | 2001 | 02V031000
VOLKSWAGEN | JETTA | 2002 | 02V031000
VOLKSWAGEN | NEW BEETLE | 2001 | 02V031000
VOLKSWAGEN | NEW BEETLE | 2002 | 02V031000
VOLKSWAGEN | PASSAT | 1996 | 02V256000
VOLVO | S80 | 1999 | 02V096000
VOLVO | VNL | 1999 | 02V110000
VOLVO | VNL | 1999 | 02V238000
VOLVO | VNL | 2000 | 02V110000
VOLVO | VNL | 2000 | 02V238000
VOLVO | VNL | 2001 | 02V110000
VOLVO | VNL | 2001 | 02V238000
VOLVO | WCA | 1993 | 02V238000
VOLVO | WG | 1994 | 02V238000
VOLVO | WIA | 1993 | 02V238000
VOLVO | WIA | 1996 | 02V238000

[FR Doc. 03-23776 Filed 9-17-03; 8:45 am]

BILLING CODE 4910-59-P